GENERAL SERVICES ADMINISTRATION

[Notice-MA-2018-06; Docket No. 2018-0002, Sequence No. 15]

Federal Travel Regulation (FTR); Relocation Allowances—Waiver of Certain Provisions of the FTR Chapter 302 for Official Relocation Travel to Locations in the U.S. Virgin Islands and Commonwealth of Puerto Rico Impacted by Hurricanes Irma and Maria

AGENCY: Office of Government-Wide Policy (OGP), General Services Administration (GSA).

ACTION: Notice of Federal Travel Regulation (FTR) Bulletin 18-07, Relocation Allowances—Waiver of certain provisions of the FTR Chapter 302 for official relocation travel to locations in the U.S. Virgin Islands and Commonwealth of Puerto Rico impacted by Hurricanes Irma and Maria.

SUMMARY: The purpose of this notice is to inform Federal agencies that certain provisions of the FTR governing official relocation travel expenses are temporarily waived for United States (U.S.) Virgin Islands and Commonwealth of Puerto Rico locations impacted by Hurricanes Irma and Maria. As a result of the storm damage caused by Hurricanes Irma and Maria, agencies should consider delaying all non-essential relocations to the affected areas given the statutory 120-day maximum for Temporary Quarters Subsistence Expenses (TQSE). Due to the lasting effects of the storm damage to these affected areas, finding lodging facilities and/or adequate meals may be difficult, and distances involved may be great, resulting in increased costs for relocation per diem expenses. FTR Bulletin 18-07 and all other FTR Bulletins can be found at www.gsa.gov/ftrbulletin.

DATES: Applicable: July 19, 2018.

Applicability: The Bulletin is retroactively applicable for official relocation travel performed on or after September 7, 2017, the date of the Presidential Disaster Declaration DR-4335, to locations in the U.S. Virgin Islands affected by Hurricane Irma, and September 10, 2017, the date of the Presidential Disaster Declaration DR-4336 to locations in the Commonwealth of Puerto Rico affected by Hurricane Irma. The FTR Bulletin expires once year from the respective applicable dates, unless extended or rescinded by this office.

The Bulletin is also retroactively applicable for official relocation travel performed on or after September 20, 2017, the date Presidential Disaster Declarations DR-4339 and DR-4340 were issued, to locations in the U.S. Virgin Islands and Commonwealth of Puerto Rico affected by Hurricane Maria. The FTR Bulletin will expire one year from the applicable date, unless extended or rescinded by this office.

FOR FURTHER INFORMATION CONTACT: For clarification of content, contact Mr. Rick Miller, Program Analyst, Office of Government-Wide Policy, Office of Asset and Transportation Management, at 202-501-3822, or by email at travelpolicy@gsa.gov. Please cite Notice of FTR Bulletin 18-07.

Dated: July 12, 2018.
Alexander Kurien,
Deputy Associate Administrator, Office of Asset and Transportation Management, Office of Government-Wide Policy.

[FR Doc. 2018-15398 Filed 7-18-18; 8:45 am]

BILLING CODE 6820-14-P